DEPARTMENT OF THE INTERIOR

Bureau of Land Management

[WY-040-06-1610-DT]

Notice of Correction to Notice of Availability of the Record of Decision for the Jack Morrow Hills Coordinated Activity Plan and Green River Resource Management Plan Amendment, Wyoming

AGENCY: Bureau of Land Management, Interior.

ACTION: Notice of correction.

SUMMARY: The Bureau of Land Management (BLM) inadvertently published an incorrect version of this notice in the Federal Register on July 20, 2006 [71 FR 41234]. The BLM is republishing the revised version of this notice.

In accordance with the Federal Land Policy and Management Act and the National Environmental Policy Act, the Bureau of Land Management (BLM) announces the availability of the Record of Decision (ROD) for the Jack Morrow Hills Coordinated Activity Plan (JMH CAP) and Green River Resource Management Plan (GRRMP) Amendment. The ROD documents the BLM's decision to approve a land use plan amendment that addresses approximately 574,800 acres of public land located in Sweetwater, Sublette, and Fremont counties in southwestern Wyoming. The JMH CAP/GRRMP Amendment contains land use plan decisions that supersede previous land use planning decisions made in the GRRMP and completes decisions deferred in the GRRMP. The JMH CAP/ROD went into effect on the date the Wyoming State Director signed the ROD.

ADDRESSES: The ROD will be available electronically on the following Web site: www.wy.blm.gov/jmhcap.

Copies of the JMH CAP/ROD are available for public inspection at the following BLM office locations:

• Bureau of Land Management, Wyoming State Office, 5353 Yellowstone Road, Cheyenne, Wyoming 82003.

• Bureau of Land Management, Rock Springs Field Office, 280 Highway 191 North, Rock Springs, Wyoming 82901.

To request a copy of the ROD, please write or telephone the BLM contacts listed below.

FOR FURTHER INFORMATION CONTACT: Michael R. Holbert, Field Manager, or Renee Dana, JMH CAP Team Leader, Bureau of Land Management, Rock Springs Field Office, 280 Highway 191 North, Rock Springs, Wyoming 82901. Requests for a copy of the ROD may be sent electronically to: rock_springs_wymail@blm.gov with “JMH CAP” in the subject line. Mr. Holbert and Ms. Dana may be reached at (307) 352-0256.

SUPPLEMENTARY INFORMATION: The JMH CAP/ROD was developed with broad public participation through a 4-year collaborative planning process. The JMH CAP/ROD provides management direction designed to achieve or maintain desired future conditions developed through the planning process. To meet the desired resource conditions, the plan includes a series of management actions for resources in the area including upland and riparian vegetation, wildlife habitats, heritage and visual resources, air quality, sensitive species, special management areas, livestock grazing, minerals including oil and gas, and recreation.

In response to the 30-day protest period that ended on August 16, 2004, a total of 1,011 protests were received by BLM. The BLM reviewed and responded to all submittals.

The JMH CAP and ROD modify existing special management areas and establish new management objectives for other areas. The JMH planning area includes five Areas of Critical Environmental Concern (ACECs) previously designated under the Green River RMP. Four of the designated five ACECs remain unchanged. The fifth, Steamboat Mountain ACEC, has been expanded by about 4,000 acres and includes the Indian Gap trail and key habitats types such as the rare sagebrush/scurfpea vegetation type.

To protect important scientific values, the West Sand Dunes Archaeological District is identified as a new management area. The JMH CAP establishes the Steamboat Mountain Management Area where BLM will emphasize management of a portion of the public lands with important Native American cultural values, important watershed values, unique wildlife habitat, and crucial big game habitat.

The JMH CAP is essentially the same as the Proposed Plan in the JMH CAP/FEIS with some reorganization and clarifications as a result of the Governor's consistency review, public comments and protests. There are no significant changes from the Proposed JMH CAP/FEIS published in July, 2004.

No inconsistencies with State or local plans, policies, or programs were identified during the Governor's consistency review of the JMH CAP/FEIS. No significant changes or modifications were necessary as a result of comments or protests. As a result, only editorial modifications were made in the JMH CAP. These modifications correct and clarify errors that were noted during review of the JMH CAP/FEIS and provide further clarification for some of the decisions.

Dated: July 27, 2006.
Donald A. Simpson,
Acting Associate State Director.

[FR Doc. E6-12423 Filed 8-1-06; 8:45 am]

BILLING CODE 4310-22-P